DEPARTMENT OF TRANSPORTATION

National Highway Traffic Safety Administration

[Docket No. NHTSA-2012-0119; Notice 2]

Final Decision That Certain Canadian-Certified Vehicles Are Eligible for Importation

AGENCY: National Highway Traffic Safety Administration (NHTSA), Department of Transportation.

ACTION: Final decision that certain nonconforming vehicles are eligible for importation.

SUMMARY: This document announces a final decision by the National Highway Traffic Safety Administration (NHTSA) that certain vehicles that do not comply with all applicable Federal motor vehicle safety standards (FMVSS), but that are certified by their original manufacturer as complying with all applicable Canadian motor vehicle safety standards (CMVSS), are nevertheless eligible for importation into the United States. The vehicles in question either (1) are substantially similar to vehicles that were certified by their manufacturers as complying with the U.S. safety standards and are capable of being readily altered to conform to those standards, or (2) have safety features that comply with, or are capable of being altered to comply with, all U.S. safety standards.

DATES: This decision is effective on November 26, 2012.

FOR FURTHER INFORMATION CONTACT: Mr. Coleman Sachs, Office of Vehicle Safety Compliance, National Highway Traffic Safety Administration, 1200 New Jersey Avenue SE., Washington, DC 20590. Telephone: (202) 366-3151.

SUPPLEMENTARY INFORMATION:

Background

Under 49 U.S.C. 30141(a)(1)(A), a motor vehicle that was not originally manufactured to conform to all applicable FMVSS shall be refused admission into the United States unless NHTSA has decided, either pursuant to a petition from the manufacturer or registered importer or on its own initiative, (1) that the nonconforming motor vehicle is substantially similar to a motor vehicle of the same model year that was originally manufactured for importation into and sale in the United States and certified by its manufacturer as complying with all applicable FMVSS, and (2) that the nonconforming motor vehicle is capable of being readily altered to conform to all applicable FMVSS. Where there is no substantially similar U.S.-certified motor vehicle, 49 U.S.C. 30141(a)(1)(B) permits a nonconforming motor vehicle to be admitted into the United States if NHTSA decides that its safety features comply with, or are capable of being altered to comply with, all applicable FMVSS based on destructive test data or such other evidence as NHTSA decides to be adequate.

Tentative Decision

On September 18, 2012, NHTSA published a notice in the Federal Register announcing that it had made a tentative decision that certain motor vehicles that are not certified by their original manufacturer as complying with all applicable FMVSS, but that are certified as complying with all applicable CMVSS are eligible for importation into the United States (77 FR 57641). The notice identified these vehicles as:

(a) All passenger cars manufactured on or after September 1, 2012 and before September 1, 2017 that, as originally manufactured, comply with FMVSS Nos. 138, 201, 206, 208, 213, 214, and 225; and

(b) All multipurpose passenger vehicles, trucks, and buses with a GVWR of 4,536 kg (10,000 lb) or less manufactured on or after September 1, 2012 and before September 1, 2017, that, as originally manufactured, comply with FMVSS Nos. 201, 206, 208, 213, 214, and 216, and insofar as they are applicable, with FMVSS Nos. 138, 222, and 225.

The notice stated that the agency also tentatively decided to revise its prior import eligibility decisions to eliminate references to the following standards that have been harmonized to their Canadian counterparts for the vehicles identified below:

• FMVSS No. 110 for all passenger cars and all multipurpose passenger vehicles, trucks, and buses with a GVWR of 4,536 kg (10,000 lb) or less manufactured on or after September 1, 2009;

• FMVSS No. 118 for all passenger cars and all multipurpose passenger vehicles, trucks, and buses with a GVWR of 4,536 kg (10,000 lb) or less manufactured on or after September 1, 2011;

• FMVSS No. 126 for all passenger cars and all multipurpose passenger vehicles, trucks, and buses with a GVWR of 4,536 kg (10,000 lb) or less manufactured on or after September 1, 2011; and

• FMVSS No. 401 for all passenger cars manufactured on or after September 1, 2010.

The reader is referred to the September 18 notice for a full discussion of the factors leading to the tentative decision. The notice of tentative decision included tables that summarize the current state of harmonization between the CMVSS and the FMVSS. For the convenience of the reader, those tables are set out below. Table 1 is a list of all FMVSS that are harmonized to the CMVSS, or for which the differences are such that compliance with the U.S. standard can be readily achieved. Table 2 is a list of all FMVSS which are not harmonized. Table 3 is a list of FMVSS that have been adopted and are not yet effective, but will be in the future. Table 2 has been revised from the version provided in the notice of tentative decision to show that FMVSS 225 Child Restraint Anchorage Systems has two Canadian equivalents, CMVSS 210.1 Tether Anchorage and CMVSS 210.2 Lower Anchorage.

Table 1—Harmonized Standards
FMVSS | Canadian equivalent | Date harmonized since last determination
102—Transmission Shift Position Sequence, Starter Interlock, and Transmission Braking Effect | CMVSS 102—Transmission Control Functions |
103—Windshield Defrosting and Defogging Systems | CMVSS 103—Windshield Defrost and Defog |
104—Windshield Wiping and Washing Systems | CMVSS 104—Windshield Wiping and Wash |
105—Hydraulic and Electric Brake Systems | CMVSS 105—Hydraulic and Electric Brakes; TSD 105 |
106—Brake Hoses | CMVSS 106—Brake Hoses; TSD 106 |
108—Lamps, Reflective Devices and Associated Equipment | CMVSS 108—Lighting Systems and Retroreflective Devices; TSD 108 |
110—Tire Selection and Rims for Motor Vehicles with a GVWR of 4,536 kg (10,000) lb) or Less | CMVSS 110—Tire Selection and Rims; TSD 110 | September 1, 2009.
111—Rearview Mirrors | CMVSS 111—Mirrors |
113—Hood Latch Systems | CMVSS 113—Hood Latch System |
114—Theft Protection and Rollaway Prevention | CMVSS 114—Locking and Immobilization; TSD 114 |
116—Motor Vehicle Brake Fluids | CMVSS 116—Hydraulic Brake Fluids; TSD 116 |
118—Power-Operated Window, Partition, and Roof Panel Systems | CMVSS 118—Power-operated Windows; TSD 118 | September 1, 2011.
120—Tire Selection and Rims and Motor Home/Recreation Vehicle Trailer Load Carrying Capacity Information for Motor Vehicles with a GVWR of More Than 4,536 Kilograms (10,000 pounds) | CMVSS 120—Tire Selection and Rims for Vehicles Other Than Passenger Cars; TSD 120 |
121—Air Brake Systems | CMVSS 121—Air Brakes for Trucks; TSD 121 |
122—Motorcycle Brake Systems | CMVSS 122—Motorcycle Brake Systems; TSD 122 |
123—Motorcycle Controls and Displays | CMVSS 123—Motorcycle Control & Displays; TSD 123 |
124—Accelerator Control Systems | CMVSS 124—Accelerator Control Systems; TSD 124 |
126—Electronic Stability Control Systems | CMVSS 126—Electronic Stability Control; TSD 126 | September 1, 2011.
131—School Bus Pedestrian Safety Devices | CMVSS 131—School Bus Pedestrian Safety Devices; TSD 131 |
135—Light Vehicle Brake Systems | CMVSS 135—Light Vehicle Brake Systems; TSD 135 |
202—Head Restraints; Applicable unless a vehicle is certified to § 571.202a | CMVSS 202—Head Restraints; TSD 202 |
202a—Head Restraints | CMVSS 202—Head Restraints; TSD 202 | September 1, 2012.
203—Impact protection for the driver from the steering control system | CMVSS 203—Driver Impact Protection |
204—Steering control rearward displacement | CMVSS 204—Steering Column Rearward Displacement |
205—Glazing materials | CMVSS 205—Glazing Materials |
205a—Glazing materials before September 1, 2006 and glazing materials used in vehicles manufactured before November 1, 2006 | CMVSS 205—Glazing Materials |
207—Seating systems | CMVSS 207—Anchorage of Seats |
210—Seat belt assembly anchorages | CMVSS 210—Seat Belt Assembly Anchorages |
212—Windshield mounting | CMVSS 212—Windshield Mounting |
216—Roof crush resistance; Applicable unless a vehicle is certified to § 571.216a | CMVSS 216—Roof Intrusion Protection; TSD 216 |
216a—Roof crush resistance; Upgraded standard | CMVSS 216—Roof Intrusion Protection; TSD 216 |
217—Bus emergency exits and window retention and release | CMVSS 217—Bus Window Retention and Emergency Exits |
219—Windshield zone intrusion | CMVSS 219—Windshield Zone Intrusion |
220—School bus rollover protection | CMVSS 220—Rollover Protection; TSD 220 |
221—School bus body joint strength | CMVSS 221—School Bus Body Joint Strength |
224—Rear impact protection | CMVSS 223—Rear Impact Guards |
301—Fuel system integrity | CMVSS 301—Fuel System Integrity; TSD 301 |
302—Flammability of interior materials | CMVSS 302—Flammability; TSD 302 |
303—Fuel system integrity of compressed natural gas vehicles | CMVSS 301.2—CNG Fuel System Integrity |
304—Compressed natural gas fuel container integrity | CMVSS 301.2—CNG Fuel System Integrity |
305—Electric-powered vehicles: electrolyte spillage and electrical shock protection | CMVSS 305—Electrolyte Spillage and Electrical Shock Protection; TSD 305 |
401—Internal trunk release | CMVSS 401—Interior Trunk Release; TSD 401 | September 1, 2010
500—Low-speed vehicles | CMVSS 500—Low-speed Vehicles; TSD 500 |

Table 2—Standards That Have Not Been Harmonized
U.S. Standard | Canadian standard | Passenger cars | Multipurpose passenger vehicles, trucks, and buses with a GVWR of 4,536 kg (10,000 lb) or less
FMVSS 101—Controls and Displays | CMVSS 101—Controls and Displays | X | X
FMVSS 138—Tire Pressure Monitoring Systems |  | X | X
FMVSS 201—Occupant Protection in Interior Impact | CMVSS 201—Occupant Protection | X | X
206—Door locks and door retention components | CMVSS 206—Door Locks and Door Retention Components | X | X
FMVSS 208—Occupant Crash Protection | CMVSS 208—Occupant Restraint Frontal Impact | X | X
FMVSS 213—Child Restraint Systems | CMVSS 213.4—Built-in Child Restraint Systems | X | X
FMVSS 214—Side Impact Protection | CMVSS 214—Side Door Strength | X | X
FMVSS 222—School Bus Passenger Seating And Crash Protection | CMVSS 222—School Bus Passenger Seating and Crash Protection |  | School buses only
FMVSS 225—Child restraint anchorage systems | CMVSS 210.1 Tether Anchorage and 210.2 Lower Anchorage | X | X

Table 3—FMVSS That Have Been Adopted But Are Not Yet Effective
FMVSS | Federal Register Notice | Description | Effective date
226—Ejection Mitigation | 76 FR 3212; 1/19/2011 | New standard to mitigate occupant ejection from side windows in rollovers and side impacts. | 9/1/17, except for altered and multistage vehicles 9/1/18.

In accordance with 49 U.S.C. 30141(b), the September 18 notice solicited public comments on the tentative decision. No comments were submitted in response to the notice. Accordingly, we are adopting the tentative decision as a final decision.

Final Decision

In consideration of the foregoing, NHTSA hereby decides that—

(a) All passenger cars manufactured on or after September 1, 2009 and before September 1, 2010 that, as originally manufactured, comply with FMVSS Nos. 118, 138, 201, 202a, 206, 208, 213, 214, 225, and 401;

(b) All passenger cars manufactured on or after September 1, 2010 and before September 1, 2011 that, as originally manufactured, comply with FMVSS Nos. 118, 138, 201, 202a, 206, 208, 213, 214, and 225;

(c) All passenger cars manufactured on or after September 1, 2011 and before September 1, 2017 that, as originally manufactured, comply with FMVSS Nos. 138, 201, 206, 208, 213, 214, and 225;

(d) All multipurpose passenger vehicles, trucks, and buses with a GVWR of 4,536 kg (10,000 lb) or less manufactured on or after September 1, 2011 and before September 1, 2012, that, as originally manufactured, comply with FMVSS Nos. 201, 202a, 206, 208, 213, 214, and 216, and insofar as they are applicable, with FMVSS Nos. 138 and 225; and

(e) All multipurpose passenger vehicles, trucks, and buses with a GVWR of 4,536 kg (10,000 lb) or less manufactured on or after September 1, 2012 and before September 1, 2017, that, as originally manufactured, comply with FMVSS Nos. 201, 206, 208, 213, 214, and 216, and insofar as they are applicable, with FMVSS Nos. 138, 222, and 225;

that are certified by their original manufacturer as complying with all applicable Canadian motor vehicle safety standards, are eligible for importation into the United States on the basis that either:

1. They are substantially similar to vehicles of the same make, model, and model year originally manufactured for importation into and sale in the United States, or originally manufactured in the United States for sale therein, and certified as complying with all applicable FMVSS, and are capable of being readily altered to conform to all applicable FMVSS, or

2. They have safety features that comply with, or are capable of being altered to comply with, all applicable FMVSS.

Vehicle Eligibility Number

The importer of a vehicle admissible under any final decision must indicate on the form HS-7 accompanying entry the appropriate vehicle eligibility number indicating that the vehicle is eligible for entry. Vehicle Eligibility Number VSA-80 is currently assigned to Canadian-certified passenger cars and Vehicle Eligibility Number VSA-81 is currently assigned to Canadian-certified multipurpose passenger vehicles, trucks, and buses with a GVWR of 4,536 kg (10,000 lb) or less. All passenger cars admissible under this decision will be assigned vehicle eligibility number VSA-80, and all multipurpose passenger vehicles, trucks, and buses admissible under this decision will be assigned vehicle eligibility number VSA-81.

Authority: 49 U.S.C. 30141(a)(1)(A), (a)(1)(B), and (b)(1); 49 CFR 593.8; delegation of authority at 49 CFR 1.95.

Issued on: November 15, 2012.
Daniel C. Smith,
Senior Associate Administrator for Vehicle Safety.

[FR Doc. 2012-28626 Filed 11-23-12; 8:45 am]

BILLING CODE 4910-59-P